ENVIRONMENTAL PROTECTION AGENCY

[FRL-7494-2]

Microbial and Disinfectants/Disinfection Byproducts Advisory Committee; Notice of Charter Renewal

AGENCY: Environmental Protection Agency.

ACTION: Notice of charter renewal.

The Charter for the Environmental Protection Agency's (EPA) Microbial and Disinfectants/Disinfection Byproducts Advisory Committee (MDBPAC) was renewed on March 7, 2003, for an additional two-year period, in accordance with the provisions of the Federal Advisory Committee Act (FACA), 5 U.S.C. App. 2, section 9(c). The MDBPAC provides advice and recommendations to the EPA Administrator on issues associated with the development of regulations to address microorganisms and disinfectants/disinfection byproducts in public water supplies. EPA has determined that continuation of the MDBPAC is necessary and that it is in the public interest to enable the Agency to perform its duties under the Safe Drinking Water Act.

Inquiries may be directed to Sharon Gonder, Designated Federal Officer, MDBPAC, U.S. EPA, MC-4607M, 1200 Pennsylvania Avenue, NW., Washington, DC 20460 or by e-mail at gonder.sharon@epa.gov.

Dated: April 28, 2003.
G. Tracy Mehan III,
Assistant Administrator, Office of Water.

[FR Doc. 03-11001 Filed 5-2-03; 8:45 am]

BILLING CODE 6560-50-P